DEPARTMENT OF TRANSPORTATION

Federal Highway Administration

Reports, Forms and Recordkeeping Requirements Agency Information Collection Activities Under OMB Review

AGENCY: Federal Highway Administration, DOT.

ACTION: Notice.

SUMMARY: In compliance with the Paperwork Reduction Act of 1995 (44 U.S.C. 3501 et seq.), this notice announces that the Information Collection Requests (ICR) abstracted below have been forwarded to the Office of Management and Budget (OMB) for review and comment. The ICRs describe the nature of the information collections and their expected burdens. The Federal Register Notice with a 60-day comment period soliciting public comments on the following information collections was published on May 5, 2000 [65 FR 26269].

DATES: Comments must be submitted on or before September 8, 2000.

FOR FURTHER INFORMATION CONTACT: Mr. Paul Scott, (202) 366-4104 (for OMB Nos. 2125-0519 and 2125-0522) and Mr. Robert Winans, (202) 366-4656 (for OMB No. 2125-0521), Federal Highway Administration, 400 7th Street, SW., Washington, DC 20590-0001. Office hours are from 7:30 a.m. to 4 p.m., e.t., Monday through Friday, except Federal holidays.

SUPPLEMENTARY INFORMATION:

1. Title: Developing and Recording Costs for Utility Adjustments.

OMB Control Number: 2125-0519 (Expiration Date: November 30, 2000).

Affected Public: State highway agencies and public utilities.

Abstract: Under 23 U.S.C. 123, the FHWA reimburses the State highway agencies when they have paid the costs of utility facilities' relocations that are required by the construction of Federal-aid highway projects. The FHWA requires the utilities to document the costs for adjusting their facilities. The utilities must have a system for recording labor, materials, supplies and equipment costs incurred when undertaking adjustments to accommodate the highway projects. This record of costs forms the basis for payment by the State highway agency to the utility and in turn the FHWA reimburses the State for its payment to the utility. The utilities are required to maintain these records of costs for three years after final payment is received.

Estimated Annual Burden: The FHWA estimates that this collection imposes a total annual burden of 72,000 hours; i.e., approximately 9,000 reimbursable utility adjustments are made yearly by approximately 3,000 of the 30,000 utility firms. The average amount of time required by these firms to calculate the adjustment costs and maintain the required records is estimated at 8 hours for each adjustment.

2. Title: Utility Use and Occupancy Agreements.

OMB Control Number: 2125-0522 (Expiration Date: October 31, 2000).

Affected Public: State/local highway authorities and public utilities.

Abstract: Under 23 U.S.C. 116, the FHWA requires the State and/or local highway authorities to maintain the highway rights-of-way including the control of its use by the utilities. In controlling the utilities' use of the highway rights-of-way the State/local highway authorities are required to document the terms under which the utility is to cross or otherwise occupy the highway rights-of-way. This documentation, consisting of a use and occupancy agreement (permit), must be in writing and must be maintained in the State/local highway authority's files for a three-year retention period.

Estimated Annual Burden: The FHWA estimates that the total annual burden imposed on the public by this collection is 414,000 hours; i.e., nearly 4,600 of the 6,700 State and local highway authorities are involved in an average of 15 use and occupancy agreements per year, and the estimated average amount of time required by these entities to process each permit is 6 hours.

3. Title: Developing and Recording Costs for Railroad Adjustments.

OMB Control Number: 2125-0521 (Expiration Date: October 31, 2000).

Affected Public: State highway agencies and railroad companies.

Abstract: Under 23 U.S.C. 130, the FHWA reimburses the State highway agencies when they have paid for the cost of projects that (1) eliminate hazards at railroad/highway crossings, or (2) adjust railroad facilities to accommodate the construction of highway projects. The FHWA requires the railroad companies to document their costs incurred for adjusting their facilities. The railroad companies must have a system for recording labor, materials, supplies, and equipment costs incurred when undertaking the necessary railroad work. This record of costs forms the basis for payment by the State highway agency to the railroad company, and in turn FHWA reimburses the State for its payment to the railroad company.

Estimated Annual Burden: The FHWA estimates that the total annual burden imposed on the public by this collection is 9,600 hours; i.e., nearly 120 of the 500 railroad companies are involved in an average of 10 railroad/highway projects per year, and the average number of hours required to calculate the railroad adjustment costs and maintain the required records is 8 hours for each adjustment.

Authority: 23 U.S.C. 101, 116, 121, 123, 130 and 315; 49 CFR 1.48.

ADDRESSES: Send comments to the Office of Information and Regulatory Affairs, Office of Management and Budget, 725 17th Street, NW., Washington, DC 20503, Attention: DOT Desk Officer. Comments are invited on: whether the proposed collection of information is necessary for the proper performance of the functions of the Department, including whether the information will have practical utility; the accuracy of the Department's estimate of the burden of the proposed information collection; ways to enhance the quality, utility and clarity of the information to be collected; and ways to minimize the burden of the collection of information on respondents, including the use of automated collection techniques or other forms of information technology. A comment to OMB is most effective if OMB receives it within 30 days of publication of this Notice.

Issued on: August 3, 2000.
James R. Kabel,
Chief, Management Programs and Analysis Division.

[FR Doc. 00-20100 Filed 8-8-00; 8:45 am]

BILLING CODE 4910-22-P